DEPARTMENT OF COMMERCE

International Trade Administration

[A-570-868]

Folding Metal Tables and Chairs From the People's Republic of China: Extension of Time Limit for the Final Results of the Antidumping Duty Administrative Review

AGENCY: Import Administration, International Trade Administration, Department of Commerce.

DATES: Effective Date: December 17, 2008.

FOR FURTHER INFORMATION CONTACT: Lilit Astvatsatrian, AD/CVD Operations, Office 8, Import Administration, International Trade Administration, U.S. Department of Commerce, 14th Street and Constitution Avenue, NW., Washington, DC 20230; telephone: (202) 482-6412.

SUPPLEMENTARY INFORMATION:

Background

On July 26, 2007, the Department of Commerce (“Department”) published the initiation of the administrative review of the antidumping duty order on folding metal tables and chairs from the People's Republic of China (“PRC”). See Initiation of Antidumping and Countervailing Duty Administrative Reviews and Request for Revocation in Part, 72 FR 41057 (July 26, 2007). On July 14, 2008, the Department published the preliminary results of review. See Folding Metal Tables and Chairs from the People's Republic of China: Preliminary Results of Antidumping Duty Administrative Review and Intent to Revoke in Part, 73 FR 40285 (July 14, 2008). This review covers the period June 1, 2006, through May 31, 2007.

Extension of Time Limit for Final Results of Review

Pursuant to section 751(a)(3)(A) of the Tariff Act of 1930, as amended (“Act”), the Department shall make a final determination in an administrative review of an antidumping duty order within 120 days after the date on which the preliminary results are published. The Act further provides that the Department may extend that 120-day period to 180 days after the preliminary results if it determines it is not practicable to complete the review within the foregoing time period.

On November 10, 2008, the Department published a notice extending the time limit until December 11, 2008, for the final results of this administrative review. See Folding Metal Tables and Chairs from the People's Republic of China: Extension of Time Limit for the Final Results of Antidumping Duty Administrative Review, 73 FR 66595 (November 10, 2008).

The Department now finds that it is not practicable to complete the final results of the administrative review of folding metal tables and chairs from the PRC within the current deadline due to complex issues the parties have raised related to revocation, market-economy purchase prices, and surrogate financial statements. We find that additional time is needed to complete these final results. Therefore, in accordance with section 751(a)(3)(A) of the Act, the Department is extending by 30 days the time period for completion of the final results of this review. This extension makes these final results due 180 days after the date on which the preliminary results were published, i.e., January 10, 2009. However, because January 10, 2009, falls on a weekend, the actual due date will be the first business day following the Search Term Begin weekend, i.e., January 12, 2009.

This notice is published in accordance with sections 751(a)(3)(A) and 777(i) of the Act.

Dated: December 11, 2008.
Gary Taverman,
Acting Deputy Assistant Secretary for Antidumping and Countervailing Duty Operations.

[FR Doc. E8-29946 Filed 12-16-08; 8:45 am]

BILLING CODE 3510-DS-P